FEDERAL MARITIME COMMISSION

Ocean Transportation Intermediary License Reissuances

Notice is hereby given that the following Ocean Transportation Intermediary licenses have been reissued by the Federal Maritime Commission pursuant to section 19 of the Shipping Act of 1984 (46 U.S.C. Chapter 409), and the regulations of the Commission pertaining to the licensing of Ocean Transportation Intermediaries, 46 CFR Part 515.

License No. | Name/address | Date reissued
015247N | Amerindias, Inc., 5220 NW 72nd Avenue, Bay 3, Miami, FL 33166 | November 10, 2006.
004664F | Cornerstone Logistics Incorporated, 1017 Grandview Drive, So. San Francisco, CA 94080 | November 4, 2006.
015548N | Demars International, Inc. dba Service America, Independent Line, Cargo Bldg. 67, Suite 3082, JFK Int'l. Airport, Jamaica, NY 11430 | September 14, 2006.
003961F | Ford Freight Forwarders,Inc., 8081 NW 67th Street, Miami, FL 33066 | October 15, 2006.
003172F | The Interport Company, Inc., 2300 E. Higgins Road, Suite 209-A, Elk Grove Village, IL 60007 | November 17, 2006.

Sandra L. Kusumoto,
Director, Bureau of Certification and Licensing.

[FR Doc. E6-20673 Filed 12-5-06; 8:45 am]

BILLING CODE 6730-01-P